COMMISSION ON CIVIL RIGHTS

Membership of the USCCR Performance Review Board

AGENCY: U.S. Commission on Civil Rights.

ACTION: Notice of Membership of the USCCR Performance Review Board.

SUMMARY: This notice announces the appointment of the Performance Review Board (PRB) of the United States Commission on Civil Rights. Publication of PRB membership is required pursuant to 5 U.S.C. 4314(c)(4).

The PRB provides fair and impartial review of the U.S. Commission on Civil Rights' Senior Executive Service performance appraisals and makes recommendations regarding performance ratings and performance awards to the Staff Director, U. S. Commission on Civil Rights for the FY 2008 rating year.

FOR FURTHER INFORMATION CONTACT: TinaLouise Martin, Director of Management, U.S. Commission on Civil Rights, 624 Ninth Street, NW., Washington, DC 20425, Telephone: (202) 376-8364.

USCCR Performance Review Board Members: William D. Spencer, Clerk of the Board, MSPB, David Capozzi, Acting Executive Director, U.S. Access Board, Mary Johnson, General Counsel, NMB.

Dated: April 6, 2009.
David P. Blackwood,
General Counsel.

[FR Doc. E9-8091 Filed 4-8-09; 8:45 am]

BILLING CODE 6335-01-P